DEPARTMENT OF COMMERCE

International Trade Administration

[C-533-844]

Certain Lined Paper Products from India: Notice of Partial Rescission of Countervailing Duty Administrative Review: 2012

AGENCY: Enforcement and Compliance, formerly Import Administration, International Trade Administration, Department of Commerce.

DATES: Effective Date: January 31, 2014.

FOR FURTHER INFORMATION CONTACT: John Conniff, Office III, AD/CVD Operations, Enforcement and Compliance, International Trade Administration, U.S. Department of Commerce, 14th Street and Constitution Avenue NW., Washington, DC 20230; telephone: (202) 482-1009.

SUPPLEMENTARY INFORMATION:

Background

On September 3, 2013, the Department of Commerce (the Department) published a notice of opportunity to request an administrative review of the countervailing duty order on certain lined paper products from India.¹ On September 30, 2013, Navneet Education Ltd. (Navneet) filed a timely request for review. No other interested party submitted a review request for Navneet. The Department published in the Federal Register the notice of initiation of this countervailing duty administrative review, which included Navneet, for the period January 1, 2012, through December 31, 2012.²

¹ See Initiation of Antidumping or Countervailing Duty Order, Finding or Suspended Investigation; Opportunity to Request Administrative Review, 78 FR 54235, 78 FR 54236 (September 3, 2013).

² See Initiation of Antidumping and Countervailing Duty Administrative Reviews and Request for Revocation in Part 78 FR 67104, 67105 (November 8, 2013) (Initiation).

On January 6, 2014, Navneet submitted a timely withdrawal of its review request.³ Therefore, we are rescinding the review with regard to Navneet.

³ See Navneet's January 6, 2014, Withdrawal of Request for Countervailing Duty Administrative Review.

Partial Rescission of the 2012 Administrative Review

Pursuant to 19 CFR 351.213(d)(1), the Secretary will rescind an administrative review, in whole or in part, if the parties that requested a review withdraw the request within 90 days of the date of publication of the notice of initiation of the requested review. The Department published the Initiation on November 8, 2013. Navneet's withdrawal request was submitted within the 90-day period following the publication of the Initiation and, thus, is timely. Therefore, in accordance with 19 CFR 351.213(d)(1) we are rescinding this review of the countervailing duty order on certain lined paper products from India with respect to Navneet. We will continue this administrative review with regard to the remaining company, A.R. Printing & Packaging (India) Pvt. Ltd., for which a review was requested and not subsequently withdrawn.

Assessment

The Department will instruct U.S. Customs and Border Protection (CBP) to assess countervailing duties on all appropriate entries at a rate equal to the cash deposit of estimated countervailing duties required at the time of entry, or withdrawal from warehouse, for consumption, during the period January 1, 2012, through December 31, 2012, in accordance with 19 CFR 351.212(c)(1)(i).

The Department intends to issue appropriate assessment instructions directly to CBP 15 days after publication of this notice.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: January 27, 2014.
Christian Marsh,
Deputy Assistant Secretary for Antidumping and Countervailing Duty Operations.

[FR Doc. 2014-02076 Filed 1-30-14; 8:45 am]

BILLING CODE 3510-DS-P